DEPARTMENT OF STATE

[Public Notice 4764]

Edmund S. Muskie Graduate Fellowship Program

ACTION: Revision to grant start date and proposal submission deadline.

SUMMARY: Pending the availability of funds, the grant period for this program has been revised to begin on or about October 1, 2004, as opposed to October 1, 2005, as previously announced. The deadline for submission of proposals has also been extended from July 30 to Aug 16, 2004. All other terms and conditions of the original announcement remain the same.

FOR FURTHER INFORMATION CONTACT: Interested U.S. organizations should contact Lucy Jilka at 202-205-7494 for additional information.

The Edmund S. Muskie Graduate Fellowship Program was announced in the Federal Register Volume 69, Number 125.

Dated: July 13, 2004.
C. Miller Crouch,
Principal Deputy Assistant Secretary, Bureau of Educational and Cultural Affairs, Department of State.

[FR Doc. 04-16364 Filed 7-16-04; 8:45 am]

BILLING CODE 4710-05-P